DEPARTMENT OF TRANSPORTATION

Federal Aviation Administration

14 CFR Part 71

[Docket No. FAA-2024-2533; Airspace Docket No. 22-AAL-26]

RIN 2120-AA66

Amendment of Colored Federal Airways Green 8 (G-8), Green 10 (G-10), Green 12 (G-12), and Red 99 (R-99); Revocation of Colored Federal Airway Blue 27 (B-27) and Alaskan Very High Frequency Omnidirectional Range Federal Airway V-619 in Alaska

AGENCY: Federal Aviation Administration (FAA), DOT.

ACTION: Final rule.

SUMMARY: This action amends Colored Federal Airways Green 8 (G-8), Green 10 (G-10), Green 12 (G-12), and Red 99 (R-99); and revokes Colored Federal Airway Blue 27 (B-27) and Alaskan Very High Frequency Omnidirectional Range (VOR) Federal Airway V-619 in Alaska. This action is due to the decommissioning of the Chinook, Fort Davis, Hotham, Oscarville, and Kachemak Nondirectional Radio Beacons (NDB) in Alaska.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2024-2533 in the Federal Register (89 FR 91293; November 19, 2024), to amend Colored Federal Airways Green 8 (G-8), Green 10 (G-10), Green 12 (G-12), and Red 99 (R-99); and revoke Colored Federal Airway Blue 27 (B-27) and Alaskan VOR Federal Airway V-619 in Alaska. Interested parties were invited to participate in this rulemaking effort by submitting written comments on the proposal. No comments were received.

Incorporation by Reference

Colored Federal Airways are published in paragraph 6009 and Alaskan VOR Federal Airways are published in paragraph 6010(b) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 to amend Colored Federal Airways G-8, G-10, G-12, and R-99. Additionally, this action revokes B-27 and V-619 in their entirety in Alaska. These actions are proposed due to the decommissioning of the Chinook, Fort Davis, Hotham, Oscarville, and Kachemak NDB in Alaska.

G-8: Prior to this final rule, G-8 extended between the Shemya, AK, NDBd the Kachemak, AK, NDB. This rule revokes a segment of G-8 between the Elfee, AK, NDB and the Kachemak NDB. The decommissioning of the Chinook and Kachemak NDBs renders these segments unusable. As amended, G-8 extends between the Shemya NDB and the Elfee NDB.

G-10: Prior to this final rule, G-10 extended between the Cape Newenham, AK, NDB/Distance Measuring Equipment (DME) and the Kachemak, AK NDB. This rule revokes a segment of G-10 between the Woody Island, AK NDB and the Kachemak NDB. The decommissioning of the Kachemak NDB renders this segment of G-10 unusable. As amended, G-10 extends between the Cape Newenham NDB/DME and the Woody Island NDB.

G-12: Prior to this final rule, G-12 extended between the Chinook, AK, NDB and the Elfee, AK, NDB. This rule revokes a segment of G-12 between the Chinook NDB and the Port Heiden, AK, NDB/DME. The decommissioning of the Chinook NDB renders this segment of this route unusable. As amended, G-12 extends between the Port Heiden NDB/DME and the Elfee NDB.

R-99: Prior to this final rule, R-99 extended between the St. Paul Island, AK, NDB/DME and the Kachemak, AK, NDB. This rule revokes a segment of R-99 between the Dutch Harbor, AK, NDB/DME and the Kachemak NDB. The decommissioning of the Chinook and Kachemak NDBs renders this segment unusable. As amended, R-99 extends between the Port Heiden and the Dutch Harbor NDB/DMEs in Alaska.

B-27: Prior to this final rule, B-27 extended between the Woody Island, AK, NDB and the Hotham, AK, NDB. This rule revokes this airway in its entirety due to the decommissioning of the Chinook, Oscarville, Fort Davis, and the Hotham NDBs.

V-619: Prior to this final rule, V-619 extended between the Port Heiden, AK, NDB/DME and the Dillingham, AK, VOR/DME. This rule revokes this airway in its entirety due to the decommissioning of the Chinook, AK, NDB.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Colored Federal Airways Green 8 (G-8), Green 10 (G-10), Green 12 (G-12), and Red 99 (R-99) and revoking Colored Federal Airway Blue 27 (B-27) and Alaskan VOR Federal Airway V-619 in Alaska qualifies for categorical exclusion under the National Environmental Policy Act (42 U.S.C. 4321, et seq.) and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6009 Colored Federal Airways.

* * * * *

G-8 [Amended]

From Shemya, AK, NDB, 20 AGL; Mount Moffett, AK, NDB/DME, 20 AGL; Dutch Harbor, AK, NDB/DME, 20 AGL; INT Dutch Harbor, AK, NDB/DME 041° and Elfee, AK, NDB 253° bearings, 20 AGL; Elfee, AK, NDB.

* * * * *

G-10 [Amended]

From Cape Newenham, AK, NDB/DME; 20 AGL St. Paul Island, AK, NDB/DME; 20 AGL Elfee AK, NDB; 20 AGL INT Elfee NDB 041° and Port Heiden, AK, NDB/DME 248° bearings; 20 AGL Port Heiden NDB/DME; 67 miles 12 AGL, 77 miles 85 MSL, 67 miles 12 AGL, Woody Island, AK, NDB.

* * * * *

G-12 [Amended]

Port Heiden, AK, NDB/DME, 20 AGL; Borland, AK, NDB/DME; 20 AGL; to Elfee, AK, NDB.

* * * * *

R-99 [Amended]

From St. Paul Island, AK, NDB/DME, 20 AGL; Dutch Harbor, AK, NDB/DME.

* * * * *

B-27 [Removed]

* * * * *

Paragraph 6010(b) Alaskan VOR Federal Airway.

* * * * *

V-619 [Removed]

* * * * *

Issued in Washington, DC, on May 6, 2025.
Brian Eric Konie,
Manager (A), Rules and Regulations Group.

[FR Doc. 2025-08270 Filed 5-12-25; 8:45 am]

BILLING CODE 4910-13-P